DEPARTMENT OF THE TREASURY

Office of Foreign Assets Control

Additional Designations, Foreign Narcotics Kingpin Designation Act

AGENCY: Office of Foreign Assets Control, Treasury.

ACTION: Notice.

SUMMARY: The U.S. Department of the Treasury 's Office of Foreign Assets Control (“OFAC”) is publishing the names of five individuals and 10 entities whose property and interests in property have been blocked pursuant to the Foreign Narcotics Kingpin Designation Act (“Kingpin Act”) (21 U.S.C. 1901-1908, 8 U.S.C. 1182).

DATES: The designation by the Director of OFAC of the five individuals and 10 entities identified in this notice pursuant to section 805(b) of the Kingpin Act is effective on April 10, 2014.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On April 10, 2014, the Director of OFAC designated the following five individuals and 10 entities whose property and interests in property are blocked pursuant to section 805(b) of the Kingpin Act.

Individuals

1. CONTRERAS SANCHEZ, Maria Aurora, Av. Hidalgo No. 2433, Colonia Vallarta Norte, Guadalajara, Jalisco, Mexico; 3888 Paseo de los Parques, Colonia Colinas de San Javier, Zapopan, Jalisco, Mexico; DOB 25 Oct 1979; POB Guadalajara, Jalisco, Mexico; R.F.C. COSA791025645 (Mexico) (individual) [SDNTK] (Linked To: INMOBILIARIA CORSANCH, S.A. DE C.V.).

2. ROSALES MORFIN, Eva Luz, 3888 Calle Paseo de los Parques, La Colonia Colinas de San Javier, Zapopan, Jalisco, Mexico; DOB 11 Apr 1968; POB Guadalajara, Jalisco, Mexico; Passport G01626402 (Mexico); R.F.C. ROME6804111R9 (Mexico) (individual) [SDNTK] (Linked To: INMOBILIARIA CORSANCH, S.A. DE C.V.).

3. SANCHEZ GONZALEZ, Fernando; DOB 24 Sep 1969; POB Jalisco, Mexico; R.F.C. SAGF690924JU7 (Mexico); C.U.R.P. SAGF690924HJCNNR09 (Mexico) (individual) [SDNTK] (Linked To: CONSTRUCTORA ACANTU, S.A. DE C.V.; Linked To: GRUPO INMOBILIARIO OCSA, S.A. DE C.V.; Linked To: INMOBILIARIA ASYSA, S.A. DE C.V.; Linked To: GRUPO ISAYAS, S.A. DE C.V.; Linked To: DBARDI, S.A. DE C.V.; Linked To: GRUPO FRACSA, S.A. DE C.V.).

4. SANCHEZ GONZALEZ, Javier, Av. Vallarta No. 3216, Guadalajara, Jalisco, Mexico; DOB 15 May 1971; POB Jalisco, Mexico; R.F.C. SAGJ7105156K9 (Mexico); C.U.R.P. SAGJ710515HJCNNV02 (Mexico) (individual) [SDNTK] (Linked To: INMOBILIARIA ASYSA, S.A. DE C.V.; Linked To: CARIATIDE GRUPO INMOBILIARIO, S.A. DE C.V.; Linked To: DBARDI, S.A. DE C.V.; Linked To: GRUPO FRACSA, S.A. DE C.V.).

5. SANCHEZ GONZALEZ, Jose, Av. Vallarta No. 3216, Col. Vallarta San Jorge, Guadalajara, Jalisco, Mexico; DOB 30 Sep 1962; POB Jalisco, Mexico; R.F.C. SAGJ620930MG0 (Mexico); C.U.R.P. SAGJ620930HJCNNS03 (Mexico) (individual) [SDNTK] (Linked To: GRUPO INSA, S.A. DE C.V.; Linked To: CONSTRUCTORA ACANTU, S.A. DE C.V.; Linked To: GRUPO INMOBILIARIO OCSA, S.A. DE C.V.; Linked To: INMOBILIARIA GORSA, S.A. DE C.V.; Linked To: INMOBILIARIA ASYSA, S.A. DE C.V.; Linked To: GRUPO ISAYAS, S.A. DE C.V.; Linked To: INMOBILIARIA NOVSA, S.A. DE C.V.; Linked To: DBARDI, S.A. DE C.V.; Linked To: GRUPO FRACSA, S.A. DE C.V.).

Entities

1. BOCADOS DE AUTOR, S.A. DE C.V. (a.k.a. LUCRECIA BAR), Av. Pablo Neruda 3085, Colonia Providencia, Guadalajara, Jalisco 44630, Mexico; R.F.C. BAU810024J4 (Mexico) [SDNTK].

2. CARIATIDE GRUPO INMOBILIARIO, S.A. DE C.V., Av. Vallarta No. 3216, Col. Vallarta San Jorge, Guadalajara, Jalisco 44690, Mexico; R.F.C. CGI0501197ST (Mexico) [SDNTK] (Linked To: SANCHEZ GONZALEZ, Javier).

3. CONSTRUCTORA ACANTU, S.A. DE C.V., Av. Vallarta No. 3216, Col. Vallarta San Jorge, Guadalajara, Jalisco 44690, Mexico; R.F.C. CAC931015UC2 (Mexico) [SDNTK] (Linked To: SANCHEZ GONZALEZ, Ernesto; Linked To: SANCHEZ GONZALEZ, Jose; Linked To: SANCHEZ GONZALEZ, Fernando).

4. GRUPO INMOBILIARIO OCSA, S.A. DE C.V., Av. Vallarta No. 3216, Col. Vallarta San Jorge, Guadalajara, Jalisco 44690, Mexico; R.F.C. GIO050907D57 (Mexico) [SDNTK] (Linked To: SANCHEZ GONZALEZ, Jose; Linked To: SANCHEZ GONZALEZ, Fernando).

5. GRUPO INSA, S.A. DE C.V. (a.k.a. INSA: GRUPO INMOBILIARIO, S.A. DE C.V.), Av. Vallarta No. 3216, Col. Vallarta San Jorge, Guadalajara, Jalisco 44690, Mexico; R.F.C. GIN050207A76 (Mexico) [SDNTK] (Linked To: SANCHEZ GONZALEZ, Jose).

6. GRUPO ISAYAS, S.A. DE C.V., Av. Vallarta No. 3216, Col. Vallarta San Jorge, Guadalajara, Jalisco 44690, Mexico; R.F.C. GIS040527T58 (Mexico) [SDNTK] (Linked To: SANCHEZ GONZALEZ, Jose; Linked To: SANCHEZ GONZALEZ, Fernando).

7. INMOBILIARIA ASYSA, S.A. DE C.V., Av. Vallarta No. 3216, Col. Vallarta San Jorge, Guadalajara, Jalisco, Mexico; R.F.C. IAS050907A14 (Mexico) [SDNTK] (Linked To: SANCHEZ GONZALEZ, Jose; Linked To: SANCHEZ GONZALEZ, Fernando; Linked To: SANCHEZ GONZALEZ, Javier).

8. INMOBILIARIA CORSANCH, S.A. DE C.V., Guadalajara, Jalisco, Mexico; Folio Mercantil No. 40778 (Mexico) [SDNTK].

9. INMOBILIARIA GORSA, S.A. DE C.V., Av. Vallarta No. 3216, Col. Vallarta San Jorge, Guadalajara, Jalisco 44690, Mexico; R.F.C. IGO060407J63 (Mexico) [SDNTK] (Linked To: SANCHEZ GONZALEZ, Jose).

10. INMOBILIARIA NOVSA, S.A. DE C.V., Av. Vallarta No. 3216, Col. Vallarta San Jorge, Guadalajara, Jalisco 44690, Mexico; R.F.C. GIN050623D21 (Mexico) [SDNTK] (Linked To: SANCHEZ GONZALEZ, Jose).

In addition, OFAC is publishing an addition to the identifying information for the following individuals previously designated pursuant to the Kingpin Act.

1. ADIB MADERO, Michel; DOB 21 Feb 1977; POB Jalisco, Mexico; Cedula No. 3348806 (Mexico); R.F.C. AIMM770221CJ7 (Mexico); C.U.R.P. AIMM770221HJCDDC08 (Mexico) (individual) [SDNTK] (Linked To: RESTAURANT BAR LOS ANDARIEGOS, S.A. DE C.V.).

2. CONTRERAS SANCHEZ, Diego; DOB 19 Apr 1985; POB Jalisco, Mexico; R.F.C. COSD850419T13 (Mexico); C.U.R.P. COSD850419HJCNNG02 (Mexico) (individual) [SDNTK] (Linked To: RESTAURANT BAR LOS ANDARIEGOS, S.A. DE C.V.).

3. GARZA RODRIGUEZ, Beatriz (a.k.a. GARZA RODRIGUEZ DE SANCHEZ, Beatriz), Av. Vallarta No. 3060, Colonia Vallarta San Jorge, Guadalajara, Jalisco, Mexico; 5151-37 A Av. Acueducto, La Colonia Residencial Pontevedra, Zapopan, Jalisco, Mexico; DOB 14 Nov 1948; POB Los Mochis, Sinaloa, Mexico; R.F.C. GARB481114965 (Mexico); C.U.R.P. GARB481114MSLRDT03 (Mexico) (individual) [SDNTK].

4. SANCHEZ GARZA, Diego, Av. Vallarta No. 3060, Colonia Vallarta San Jorge, Guadalajara, Jalisco, Mexico; DOB 05 Apr 1976; POB Guadalajara, Jalisco, Mexico; R.F.C. SAGD760405A45 (Mexico); C.U.R.P. SAGD760405HJCNRG06 (Mexico) (individual) [SDNTK] (Linked To: GRUPO FRACSA, S.A. DE C.V.; Linked To: DBARDI, S.A. DE C.V.; Linked To: GRUPO CONSTRUCTOR SEGUNDO MILENIO, S.A. DE C.V.).

5. SANCHEZ GONZALEZ, Ernesto, Av. Vallarta 3216, Colonia Vallarta San Jorge, Guadalajara, Jalisco, Mexico; DOB 03 Feb 1967; POB Tepatitlan de Morelos, Jalisco, Mexico; R.F.C. SAGE670203KH4 (Mexico); C.U.R.P. SAGE670203HJCNNR06 (Mexico) (individual) [SDNTK] (Linked To: GRUPO FRACSA, S.A. DE C.V.; Linked To: DBARDI, S.A. DE C.V.).

6. SANCHEZ GONZALEZ, Ruben, Av. Arcos 960, Colonia Jardines del Bosque, Guadalajara, Jalisco, Mexico; DOB 14 Jul 1964; POB Tepatitlan de Morelos, Jalisco, Mexico; R.F.C. SAGR640714-882 (Mexico); C.U.R.P. SAGR640714HJCNNB02 (Mexico) (individual) [SDNTK] (Linked To: GRUPO FRACSA, S.A. DE C.V.; Linked To: DBARDI, S.A. DE C.V.; Linked To: PISCILANEA, S.A. DE C.V.).

The listing for these individuals now appears as follows:

1. ADIB MADERO, Michel; DOB 21 Feb 1977; POB Jalisco, Mexico; Cedula No. 3348806 (Mexico); R.F.C. AIMM770221CJ7 (Mexico); C.U.R.P. AIMM770221HJCDDC08 (Mexico) (individual) [SDNTK] (Linked To: RESTAURANT BAR LOS ANDARIEGOS, S.A. DE C.V.; Linked To: BOCADOS DE AUTOR, S.A. DE C.V.).

2. CONTRERAS SANCHEZ, Diego; DOB 19 Apr 1985; POB Jalisco, Mexico; R.F.C. COSD850419T13 (Mexico); C.U.R.P. COSD850419HJCNNG02 (Mexico) (individual) [SDNTK] (Linked To: RESTAURANT BAR LOS ANDARIEGOS, S.A. DE C.V.; Linked To: BOCADOS DE AUTOR, S.A. DE C.V.).

3. GARZA RODRIGUEZ, Beatriz (a.k.a. GARZA RODRIGUEZ DE SANCHEZ, Beatriz), Av. Vallarta No. 3060, Colonia Vallarta San Jorge, Guadalajara, Jalisco, Mexico; 5151-37 A Av. Acueducto, La Colonia Residencial Pontevedra, Zapopan, Jalisco, Mexico; DOB 14 Nov 1948; POB Los Mochis, Sinaloa, Mexico; R.F.C. GARB481114965 (Mexico); C.U.R.P. GARB481114MSLRDT03 (Mexico) (individual) [SDNTK] (Linked To: INMOBILIARIA CORSANCH, S.A. DE C.V.).

4. SANCHEZ GARZA, Diego, Av. Vallarta No. 3060, Colonia Vallarta San Jorge, Guadalajara, Jalisco, Mexico; DOB 05 Apr 1976; POB Guadalajara, Jalisco, Mexico; R.F.C. SAGD760405A45 (Mexico); C.U.R.P. SAGD760405HJCNRG06 (Mexico) (individual) [SDNTK] (Linked To: GRUPO FRACSA, S.A. DE C.V.; Linked To: DBARDI, S.A. DE C.V.; Linked To: GRUPO CONSTRUCTOR SEGUNDO MILENIO, S.A. DE C.V.; Linked To: BOCADOS DE AUTOR, S.A. DE C.V.).

5. SANCHEZ GONZALEZ, Ernesto, Av. Vallarta 3216, Colonia Vallarta San Jorge, Guadalajara, Jalisco, Mexico; DOB 03 Feb 1967; POB Tepatitlan de Morelos, Jalisco, Mexico; R.F.C. SAGE670203KH4 (Mexico); C.U.R.P. SAGE670203HJCNNR06 (Mexico) (individual) [SDNTK] (Linked To: GRUPO FRACSA, S.A. DE C.V.; Linked To: DBARDI, S.A. DE C.V.; Linked To: CONSTRUCTORA ACANTU, S.A. DE C.V.; Linked To: GRUPO ISAYAS, S.A. DE C.V.; Linked To: GRUPO INMOBILIARIO OCSA, S.A. DE C.V.).

6. SANCHEZ GONZALEZ, Ruben, Av. Arcos 960, Colonia Jardines del Bosque, Guadalajara, Jalisco, Mexico; DOB 14 Jul 1964; POB Tepatitlan de Morelos, Jalisco, Mexico; R.F.C. SAGR640714-882 (Mexico); C.U.R.P. SAGR640714HJCNNB02 (Mexico) (individual) [SDNTK] (Linked To: GRUPO FRACSA, S.A. DE C.V.; Linked To: DBARDI, S.A. DE C.V.; Linked To: PISCILANEA, S.A. DE C.V.; Linked To: CARIATIDE GRUPO INMOBILIARIO, S.A. DE C.V.).

Dated: April 10, 2014.
Barbara C. Hammerle,
Acting Director, Office of Foreign Assets Control.

[FR Doc. 2014-09105 Filed 4-21-14; 8:45 am]

BILLING CODE 4810-AL-P